DEPARTMENT OF THE TREASURY

Internal Revenue Service

Community Volunteer Income Tax Assistance (VITA) Matching Grant Program—Availability of Application Packages

AGENCY: Internal Revenue Service (IRS), Treasury.

ACTION: Notice.

SUMMARY: This document provides notice of the availability of application packages for the 2010 Community Volunteer Income Tax Assistance (VITA) Matching Grant Program.

DATES: Application packages are available from the IRS at this time. The deadline for submitting an application to the IRS is July 17, 2009. Electronic copies of the application package can be obtained by visiting: http://www.irs.gov (key word search—“VITA Grant”). Application packages may also be requested by sending an e-mail to Grant.Program.Office@irs.gov. Applications must be submitted by mail. The mailing address is listed below. Applications will not be accepted via grants.gov due to the expected increase in system activity resulting from the American Recovery and Reinvestment Act of 2009.

ADDRESSES: Application packages should be mailed to: Internal Revenue Service, Grant Program Office, 401 West Peachtree St., NW., Stop 420-D, Atlanta, GA 30308.

FOR FURTHER INFORMATION CONTACT: Grant Program Office (404) 338-7894 (not a toll free number). The e-mail address is Grant.Program.Office@irs.gov.

SUPPLEMENTARY INFORMATION: Authority for the 2010 Community Volunteer Income Tax Assistance (VITA) Matching Grant Demonstration Program for tax return preparation is contained in H. R. 1105 Omnibus Appropriations Act, 2009 (Division D—Financial Services and General Government Appropriations Act, 2009).

Dated: May 12, 2009.
Elizabeth Blair,
Chief, Grant Program Office.

[FR Doc. E9-12169 Filed 5-29-09; 8:45 am]

BILLING CODE 4830-01-P